DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

The South Carolina Railroad Museum, Inc.

[Docket Number FRA-2000-8249]

The South Carolina Railroad Museum (SCMX), Inc. of Columbia, South Carolina, has petitioned for a permanent waiver of compliance for four passenger coaches and one dining car from the requirements of the Railroad Power Brakes and Drawbars, 49 CFR Part 232.17(b)(2), which requires that air brake equipment on passenger cars be cleaned, repaired, lubricated, and tested (COTS) as often as necessary, but not less frequently then as required in Standard S-045 in the Manual of Standards and Recommended Practices of the Association of American Railroads (AAR). Standard S-045 requires that these cars equipped with S-22 brake equipment receive COTS every 24 months. The museum requests that the maintenance interval be extended from 24 months to 60 months. SCMX indicates that cars are utilized in excursion service and for special charters and were used 53 days in the last calendar year.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2000-8249) and must be submitted in triplicate to the Docket Clerk, DOT Central Docket Management Facility, Room Pl-401, Washington, DC 20590-0001. Communications received within 45 days of the date of this notice will be considered by FRA before final action is taken. Comments received after that date will be considered as far as practicable. All written communications concerning these proceedings are available for examination during regular business hours (9:00 a.m.—5:00 p.m.) at DOT Central Docket Management Facility, Room Pl-401 (Plaza Level), 400 Seventh Street SW., Washington. All documents in the public docket are also available for inspection and copying on the Internet at the docket facility's Web site at http://dms.dot.gov.

Issued in Washington, DC, on December 11, 2000.
Grady C. Cothen, Jr.,
Deputy Associate Administrator for Safety Standards and Program Development.

[FR Doc. 00-31975 Filed 12-14-00; 8:45 am]

BILLING CODE 4910-06-P